FEDERAL COMMUNICATIONS COMMISSION

Notice of Public Information Collection(s) Being Reviewed by the Federal Communications Commission for Extension Under Delegated Authority

August 10, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 24, 2005. If you anticipate that you will be submitting comments, but find it difficult to do so within the period of time allowed by this notice, you should advise the contact listed below as soon as possible.

ADDRESSES: You may submit your Paperwork Reduction Act (PRA) comments by email or U.S. postal mail. To submit you comments by e-mail send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an email to PRA@fcc.gov or contact Leslie F. Smith at (202) 418-0217.

SUPPLEMENTARY INFORMATION: OMB Control Number: 3060-0532.

Title: Scanning Receiver Compliance Exhibit, Section 2.1033 (b)(10) and Section 15.121.

Form Number: N/A.

Type of Review: Extension of a currently approved collection.

Respondents: Not-for-profit institutions; Business or other for-profit; and State, Local or Tribal Government.

Number of Respondents: 40.

Estimated Time per Response: 1 hour.

Frequency of Response: Recordkeeping, On occasion reporting requirement; Third party disclosure.

Total Annual Burden: 40 hours.

Total Annual Cost: $2,000.

Privacy Impact Assessment: No Impact(s).

Needs and Uses: On March 31, 1999, the FCC released a Report and Order, Amendment of Parts 2 and 15 of the Commission Rules to Further Ensure That Scanning Receivers Do No Receive Cellular Radio Signals, ET Docket No. 980-76, FCC 99-58. The FCC rules under 47 CFR 2.1033(b)(10) require manufacturers of scanning receivers to design their equipment so that: It has 38 dB of image rejection for Cellular Service frequencies, tuning, control and filtering circuitry are inaccessible, and any attempt to modify the scanning receiver to receive Cellular Service transmissions will likely render the scanning receiver inoperable. The Commission also requires manufacturers to submit information with any application for certification that describes: The testing method used to determine compliance with the 38 dB image rejection ratio, the design features that prevent modification of the scanning receiver to receive Cellular Service transmissions, and the design steps taken to make tuning, control, and filtering circuitry inaccessible. Furthermore, the FCC requires equipment to carry a statement assessing the vulnerability of the scanning receiver to modification and to have a label affixed to the scanning receiver, similar to the following (47 CFR 15.121):

Warning: Modification of this device to receive cellular radiotelephone service signals is prohibited under FCC Rules and Federal Law.

Federal Communications Commission.
Marlene H. Dortch,
Secretary.

[FR Doc. 05-16619 Filed 8-23-05; 8:45 am]

BILLING CODE 6712-01-P